DEPARTMENT OF VETERANS AFFAIRS

[OMB Control No. 2900-CVE Verification]

Agency Information Collection—Center for Verification and Evaluation (CVE) Verification Under OMB Review

AGENCY: Office of Small and Disadvantaged Business Utilization (OSDBU), Department of Veterans Affairs.

ACTION: Notice.

SUMMARY: In compliance with the Paperwork Reduction Act (PRA) of 1995 (44 U.S.C. 3501-3521), this notice announces that OSDBU, Department of Veterans Affairs, has submitted the collection of information abstracted below to the Office of Management and Budget (OMB) for review and comment. The PRA submission describes the nature of the information collection and its expected cost and burden; it includes the actual data collection instrument.

DATES: Written comments and recommendations on the proposed collection of information should be received on or before December 26, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—CVE Verification” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900—CVE Verification.”

SUPPLEMENTARY INFORMATION:

Title: CVE Verification.

OMB Control Number: 2900—NEW.

Type of Review: New collection.

Abstract: The Office of Small and Disadvantaged Business Utilization (OSDBU) CVE is required to measure the effectiveness of different stages of the afore-mentioned verification process and how it fulfills Veterans' needs. The stages to be measured are the pre-application, post-determination, and exit. To collect this processing information, CVE will solicit voluntary opinions of verification applicants. The results will be used to improve different areas of this program.

An agency may not conduct or sponsor, and a person is not required to respond to a collection of information unless it displays a currently valid OMB control number. The Federal Register Notice with a 60-day comment period soliciting comments on this collection of information was published on August 24, 2014, (79 FR 51397).

Affected Public: Service-disabled Veteran-owned small business (SDVOSB) owners and Veteran-owned small business (VOSB) owners that have gone through the verification process (pre-application, post-determination, or exit stages).

Estimated Annual Burden: 150 hours.

Estimated Average Burden per Respondent: 3 minutes.

Frequency of Response: Every other year (the verification status lasts for 2 years).

Estimated Number of Respondents: 250 per month (3,000 per year).

Dated: November 20, 2014.
By direction of the Secretary.
Crystal Rennie,
Department Clearance Officer, Department of Veterans Affairs.

[FR Doc. 2014-27855 Filed 11-24-14; 8:45 am]

BILLING CODE 8320-01-P